FEDERAL COMMUNICATIONS COMMISSION

Notice of Public Information Collection(s) Being Reviewed by the Federal Communications Commission for Extension Under Delegated Authority, Comments Requested

August 14, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 22, 2001. If you anticipate that you will be submitting comments, but find it difficult to do so within the period of time allowed by this notice, you should advise the contact listed below as soon as possible.

ADDRESSES: Direct all comments to Les Smith, Federal Communications Commission, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0216.

Title: Section 73.3538 Application to make changes in an existing station.

Form No.: n/a.

Type of Review: Revision of currently approved collection.

Respondents: Business or other for-profit, Not-for-profit institutions.

Number of Respondents: 50.

Estimated Hours Per Response: 1.0 hours.

Frequency of Response: Reporting, on occasion.

Cost to Respondents: $0.

Estimated Total Annual Burden: 50 hours.

Needs and Uses: On February 14, 2001, the Commission adopted a Report and Order in MM Docket No. 93-177 in the matter of An Inquiry Into the Commission's Policies and Rules Regarding AM Radio Service Directional Antenna Performance Verification. This Report and Order relaxed the technical requirements for AM stations using directional antennas. Among other things, this Report and Order eliminated the need to file an informal application to specify new AM station directional antenna field monitoring points. Revised section 73.3538(b) requires a broadcast station to file an informal application to modify or discontinue the obstruction marking or lighting of an antenna supporting structure. The requirement to file an informal application to relocate the main studio outside the principal community contour has approval under section 73.1125 (3060-0171). The data are used by FCC staff to ensure that the modification or discontinuance of the obstruction marking or lighting will not cause a menace to air navigation.

OMB Number: 3060-0449.

Title: Section 1.65(c) Substantial and significant changes in information furnished by applicants to the Commission.

Form Number: None.

Type of Review: Extension of currently approved collection.

Respondents: Business or other for-profit, not-for-profit institutions.

Number of Respondents: 6.

Estimated Hours per response: 1 hour 30 minutes.

Frequency of Response: Reporting, annually.

Cost to Respondents: None.

Estimated Total Annual Burden: 9.

Needs and Uses: Section 1.65(c) requires broadcast permittees and licensees to report annually any finding or adverse final action that involves conduct bearing on their character qualifications. This information enables the Commission to determine whether broadcast permittees and licensees maintain the requisite character qualifications to be a broadcast permittee or licensee during their license term.

OMB Approval Number: 3060-0357.

Title: Section 63.701 Requests for Designation as a Recognized Private Operating Agency.

Type of Review: Extension of a currently approved collection.

Respondents: Businesses or other for-profit.

Number of Respondents: 10.

Estimated Time Per Response: 3.5 hours.

Frequency of Response: Once.

Total Annual Burden: 35 hours.

Total Annual Costs: $11,900.

Needs and Uses: The Commission requests this information in order to make recommendations to the United States Department of State for granting recognized private operating agency (RPOA) status to requesting entities. The Commission does not require entities to request RPOA status. Rather, this is a voluntary application process for use by companies that believe that obtaining RPOA status will be beneficial in persuading foreign governments to allow them to conduct business abroad. RPOA status also permits companies to join the International Telecommunication Union's (ITU's) Telecommunications Sector, which is the standards-setting body of the ITU. The information furnished in RPOA requests is collected pursuant to section 63.701 of the Commission rules.

OMB Approval Number: 3060-0184.

Title: Section 73.1740 Minimum Operating Schedule.

Form No.: None.

Type of Review: Extension of currently approved collection.

Respondents: Businesses or other for-profit.

Number of Respondents: 368.

Estimated Hours Per Response: 0.5 hours.

Frequency of Response: Reporting, on occasion.

Cost to Respondents: None.

Estimated Total Annual Burden: 184 hours.

Needs and Uses: Section 73.1740 requires licensees of commercial broadcast stations to notify the FCC in Washington, DC, when events beyond their control make it impossible to continue operation or to adhere to the required operating schedules set forth in this section. In addition, the FCC must be notified when normal operation is resumed. No further authority is needed for limited operation or discontinued operation for a period not exceeding 30 days. Should events beyond the licensees control make it impossible for compliance within the required 30-day time period, an informal written request shall be submitted to the FCC requesting the amount of additional time that the licensee deems necessary. The data are used by FCC staff to authorize temporarily a limited operation or a discontinuance of operation.

Federal Communications Commission.
Magalie Roman Salas,
Secretary.

[FR Doc. 01-21128 Filed 8-21-01; 8:45 am]

BILLING CODE 6712-01-P